DEPARTMENT OF COMMERCE

National Oceanic and Atmospheric Administration

Agency Information Collection Activities; Submission to the Office of Management and Budget (OMB) for Review and Approval; Comment Request; Coastal Ocean Program Grants Proposal Application Package

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on 08/16/2024 during a 60-day comment period. This notice allows for an additional 30 days for public comments.

Agency: National Oceanic and Atmospheric Administration, Commerce.

Title: Coastal Ocean Program Grants Proposal Application Package.

OMB Control Number: 0648-0384.

Form Number(s): None.

Type of Request: Revision and Extension of a current information collection.

Number of Respondents: 1,400.

Average Hours Per Response: 30 minutes each for a project summary, data management template, milestone Gantt chart and current and pending federal support; 5.5 hours for a semi-annual report; 5 hours for an annual report, 10 hours for a CRP final report, 10.5 hours for the RSP final report.

Total Annual Burden Hours: 1,912.5.

Needs and Uses: This request is for a revision and extension of a currently approved information collection. The National Oceanic and Atmospheric Administration's Coastal Ocean Program (COP) now known as the Competitive Research Program (CRP) under the National Centers for Coastal Ocean Science provides direct financial assistance through grants and cooperative agreements for research supporting the management of coastal ecosystems and the NOAA Restore Science Program. The statutory authority for COP is Public Law 102-567 sec. 201 (Coastal Ocean Program). NOAA was authorized to establish and administer the Restore Science Program, in consultation with the U.S. Fish and Wildlife Service, by the Resources and Ecosystems Sustainability, Tourist Opportunities, and Revived Economies (RESTORE) of the Gulf States Act of 2012 (Pub. L. 112-141, sec. 1604). Identified in the RESTORE Act as the Gulf Coast Ecosystem Restoration Science, Observation, Monitoring, and Technology Program, the Program is commonly known as the NOAA RESTORE Science Program (RSP). In addition to standard government application requirements, applicants for financial assistance are required to submit a project summary form, current and pending form and a Data Management form template for both programs. The Data Management form template is an addition to the application package. Data Management is a required element of the application package and the use of this form the will reduce the public burden by providing a specific format instead of requiring each applicant to create their own format. The Key Contacts form has been removed from the collection. CRP recipients are required to file annual progress reports and a project final report using CRP formats. The RSP recipients are required to file semiannual progress reports, a final report and a Gantt chart showing project milestones using RSP formats. All of these requirements are needed for better evaluation of proposals and monitoring of awards.

Affected Public: Non-profit institutions; State, local, or Tribal government; business or other for-profit organizations.

Frequency: Annually, semi-annually, and on occasion.

Respondent's Obligation: Mandatory.

Legal Authority: The statutory authority for COP is Public Law 102-567 sec. 201 (Coastal Ocean Program). NOAA was authorized to establish and administer the Restore Science Program, in consultation with the U.S. Fish and Wildlife Service, by the Resources and Ecosystems Sustainability, Tourist Opportunities, and Revived Economies (RESTORE) of the Gulf States Act of 2012 (Pub. L. 112-141, sec. 1604).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0384.

Sheleen Dumas,
Departmental PRA Clearance Officer, Office of the Under Secretary for Economic Affairs, Commerce Department.

[FR Doc. 2024-29021 Filed 12-10-24; 8:45 am]

BILLING CODE 3510-JE-P